DEPARTMENT OF ENERGY

Federal Energy Regulatory Commission

Combined Notice of Filings #1

Take notice that the Commission received the following electric corporate filings:

Docket Numbers: EC20-34-000.

Applicants: MATL LLP, BHE U.S. Transmission, LLC.

Description: Joint Application for Authorization Under Section 203 of the Federal Power Act, et al. of MATL LLP, et al.

Filed Date: 1/31/20.

Accession Number: 20200131-5347.

Comments Due: 5 p.m. ET 2/21/20.

Take notice that the Commission received the following electric rate filings:

Docket Numbers: ER10-1355-008.

Applicants: Southern California Edison Company.

Description: Notification of Change in Status of Southern California Edison Company.

Filed Date: 1/30/20.

Accession Number: 20200130-5251.

Comments Due: 5 p.m. ET 2/20/20.

Docket Numbers: ER10-2042-033; ER10-1942-025; ER17-696-013; ER10-1938-028; ER10-1934-027; ER10-1893-027; ER10-3051-032; ER10-2985-031; ER10-3049-032; ER11-4369-012; ER16-2218-012; ER10-1862-027.

Applicants: Calpine Energy Services, L.P., Calpine Construction Finance Company, LP, Calpine Energy Solutions, LLC, Calpine Power America—CA, LLC, CES Marketing IX, LLC, CES Marketing X, LLC, Champion Energy, LLC, Champion Energy Marketing LLC, Champion Energy Services, LLC, North American Power and Gas, LLC, North American Power Business, LLC, Power Contract Financing, L.L.C.

Description: Notification of Change in Status of the Indicated Calpine MBR Sellers.

Filed Date: 1/31/20.

Accession Number: 20200131-5396.

Comments Due: 5 p.m. ET 2/21/20.

Docket Numbers: ER10-2854-002.

Applicants: ConocoPhillips Company.

Description: Notice of Change in Status of ConocoPhillips Company.

Filed Date: 1/30/20.

Accession Number: 20200130-5252.

Comments Due: 5 p.m. ET 2/20/20.

Docket Numbers: ER10-3097-010.

Applicants: Bruce Power Inc.

Description: Notice of Non-Material Change in Status of Bruce Power Inc.

Filed Date: 1/31/20.

Accession Number: 20200131-5397.

Comments Due: 5 p.m. ET 2/21/20.

Docket Numbers: ER17-2059-006.

Applicants: Puget Sound Energy, Inc.

Description: Notice of Non-Material Change in Status of Puget Sound Energy, Inc.

Filed Date: 1/31/20.

Accession Number: 20200131-5399.

Comments Due: 5 p.m. ET 2/21/20.

Docket Numbers: ER18-849-001; ER18-850-001; ER18-851-001.

Applicants: Mill Run Windpower LLC, Somerset Windpower LLC, Waymart Wind Farm LLC.

Description: Notice of Non-Material Change in Market-Based Rate Status of Mill Run Wind Farm LLC, et al.

Filed Date: 1/30/20.

Accession Number: 20200130-5254.

Comments Due: 5 p.m. ET 2/20/20.

Docket Numbers: ER20-792-001.

Applicants: Oklahoma Wind, LLC.

Description: Tariff Amendment: Oklahoma Wind, LLC Amendment to Application for MBR Rates to be effective 3/15/2020.

Filed Date: 2/3/20.

Accession Number: 20200203-5037.

Comments Due: 5 p.m. ET 2/24/20.

Docket Numbers: ER20-931-000.

Applicants: Duke Energy Progress, LLC.

Description: Application for the Establishment and Recovery of a Regulatory Asset of Duke Energy Progress, LLC.

Filed Date: 1/31/20.

Accession Number: 20200131-5345.

Comments Due: 5 p.m. ET 2/21/20.

Docket Numbers: ER20-932-000.

Applicants: Tri-State Generation and Transmission Association, Inc.

Description: § 205(d) Rate Filing: Filing of Unexecuted NITSA and NOA between Tri-State and ARPA to be effective 2/1/2020.

Filed Date: 2/3/20.

Accession Number: 20200203-5020.

Comments Due: 5 p.m. ET 2/24/20.

Docket Numbers: ER20-933-000.

Applicants: Consolidated Edison Company of New York, Inc.

Description: § 205(d) Rate Filing: Con Edison RY1 1-31-2020 to be effective 2/1/2020.

Filed Date: 2/3/20.

Accession Number: 20200203-5024.

Comments Due: 5 p.m. ET 2/24/20.

Docket Numbers: ER20-934-000.

Applicants: Consolidated Edison Company of New York, Inc.

Description: § 205(d) Rate Filing: WDS Tariff to be effective 2/1/2020.

Filed Date: 2/3/20.

Accession Number: 20200203-5026.

Comments Due: 5 p.m. ET 2/24/20.

Docket Numbers: ER20-935-000.

Applicants: MATL LLP, BHE U.S. Transmission, LLC.

Description: Request for Negotiated Rate Authority of MATL LLP, et al.

Filed Date: 1/31/20.

Accession Number: 20200131-5349.

Comments Due: 5 p.m. ET 2/21/20.

Docket Numbers: ER20-936-000.

Applicants: Entergy Arkansas, LLC.

Description: Application to Reduce Nuclear Decommissioning Costs of Entergy Services, LLC, on behalf of Entergy Arkansas, LLC.

Filed Date: 1/31/20.

Accession Number: 20200131-5376.

Comments Due: 5 p.m. ET 2/21/20.

Docket Numbers: ER20-937-000.

Applicants: PJM Interconnection, L.L.C.

Description: § 205(d) Rate Filing: Original WMPA SA No. 5588; Queue No. AE2-114 to be effective 1/8/2020.

Filed Date: 2/3/20.

Accession Number: 20200203-5097.

Comments Due: 5 p.m. ET 2/24/20.

Docket Numbers: ER20-938-000.

Applicants: Midcontinent Independent System Operator, Inc.

Description: § 205(d) Rate Filing: 2020-02-03_Revisions to the SPP JOA to Improve Clarity of Affected Systems to be effective 4/4/2020.

Filed Date: 2/3/20.

Accession Number: 20200203-5143.

Comments Due: 5 p.m. ET 2/24/20.

Docket Numbers: ER20-939-000.

Applicants: PJM Interconnection, L.L.C.

Description: Compliance filing: Compliance filing per Commission's 9/19/2019 order in EL18-26—Tariff Revisions to be effective 4/6/2020.

Filed Date: 2/3/20.

Accession Number: 20200203-5154.

Comments Due: 5 p.m. ET 2/24/20.

Take notice that the Commission received the following electric securities filings:

Docket Numbers: ES20-14-000.

Applicants: Dominion Energy South Carolina, Inc., South Carolina Generating Company, Inc.

Description: Application Under Section 204 of the Federal Power Act for Authorization to Issue Securities of Dominion Energy South Carolina, Inc., et al.

Filed Date: 1/30/20.

Accession Number: 20200130-5253.

Comments Due: 5 p.m. ET 2/20/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 3, 2020.
Kimberly D. Bose,
Secretary.

[FR Doc. 2020-02894 Filed 2-12-20; 8:45 am]

BILLING CODE 6717-01-P